DEPARTMENT OF AGRICULTURE

Forest Service

Resource Advisory Committee Meeting, Ravalli County Resource Advisory Committee, Hamilton, MT

AGENCY: Forest Service, USDA.

Time and Date: February 26, 2002, 6:30 p.m.

Place: Corvallis High School Library, 1045 Main Street, Corvallis, Montana.

Status: The meeting is open to the public.

Matters to be Considered: Agenda topics will include NEPA process overview, Project Solicitation and Review process, and public forum (question and answer session). The meeting is being held pursuant to the authorities in the Federal Advisory Committee Act (Public Law 92-463) and under the Secure Rural Schools and Community Self-Determination Act of 2000 (Pub. L. 106-393).

FOR MORE INFORMATION CONTACT: Jeanne Higgins, Stevensville District Ranger and Designated Federal Officer, Phone: (406) 777-5461.

Dated: February 1, 2002.
Rodd Richardson,
Forest Supervisor.

[FR Doc. 02-3063 Filed 2-8-02; 8:45 am]

BILLING CODE 3410-11-M